DEPARTMENT OF TRANSPORTATION

Federal Highway Administration

Notice of Final Federal Agency Actions on Proposed Highway in Idaho

AGENCY: Federal Highway Administration (FHWA), DOT.

ACTION: Notice of Limitation on Claims for Judicial Review of Actions by FHWA.

SUMMARY: This notice announces actions taken by the FHWA that are final within the meaning of 23 U.S.C. 139(l)(1). The actions relate to a proposed highway project, US-95 Garwood to Sagle Environmental Study in Bonner and Kootenai Counties in the State of Idaho, FHWA-ID-EIS-06-F Federal-Aid project number NH-5110(141), Idaho Transportation Department Key Number 9779.

DATES: By this notice, the FHWA is advising the public of final agency actions subject to 23 U.S.C. 139(l)(1). A claim seeking judicial review of the Federal agency actions on the highway project will be barred unless the claim is filed on or prior to January 11, 2011. If the Federal law that authorizes judicial review of a claim provides a time period of less than 180 days for filing such claim, then that shorter time period still applies.

FOR FURTHER INFORMATION CONTACT: For FHWA: Mr. Peter J. Hartman, Division Administrator, Federal Highway Administration, 3050 Lake Harbor Lane, Suite 126, Boise, Idaho 83703; telephone: (208) 334-9180; e-mail: Idaho.FHWA@dot.gov. The FHWA Idaho Division Office's normal business hours are 7 a.m. to 4:30 p.m. (Mountain Standard Time). For ITD: Ms. Sue Sullivan, Environmental Section Manager, Idaho Transportation Department, 3311 W. State St., Boise, ID 83703-1129, telephone: (208) 334-8203; e-mail: sue.sullivan@itd.idaho.gov. Normal business hours are 8 a.m. to 5 p.m. (Mountain Standard Time).

SUPPLEMENTARY INFORMATION: Notice is hereby given that the FHWA has taken final agency actions subject to 23 U.S.C. 139(l)(1) by issuing approvals for the following highway project in the State of Idaho: US-95 Garwood to Sagle Environmental Study, in Bonner and Kootenai Counties. The project will be approximately 31.5 miles long extending from Garwood (MP 438.24) to Sagle (MP 469.75) and will upgrade the existing predominantly two-lane highway to a fully controlled access, four-lane divided freeway with interchanges and frontage roads. The Draft Environmental Impact Statement (DEIS), Final Environmental Impact Statement (FEIS), Record of Decision (ROD) and published information regarding this project are posted and updated on the Idaho Transportation Department (ITD) Web site at http://itd.idaho.gov/projects/d1. Select “U.S. 95, Garwood to Sagle Environmental Study.”

The actions by the FHWA, and the laws under which such actions were taken, are described in the FEIS for the project approved on March 26, 2010. FHWA issued a Record of Decision (ROD) on July 2, 2010. The DEIS, FEIS, and other project records are available by contacting the FHWA or the Idaho Transportation Department at the addresses provided above.

This notice applies to all Federal agency decisions as of the issuance date of this notice and all laws under which such actions were taken, including but not limited to:

General: National Environmental Policy Act (NEPA) [42 U.S.C. 4321-4351]; Federal-Aid Highway Act [23 U.S.C. 109 and 23 U.S.C. 128]; Public Hearing [23 U.S.C. 128]. Safe, Accountable, Flexible, Efficient Transportation Equity Act: A Legacy for Users (SAFETEA-LU) [23 U.S.C. 139]

Air and Noise: Clean Air Act [42 U.S.C. 7401-7671(q)]; Intermodal Surface Transportation Efficiency Act of 1991, Congestion Mitigation and Air Quality Improvement Program (Sec 1008 U.S.C. 149); Noise Standards: [23 U.S.C. 109(i) (Pub. L. 91-605) (Pub. L. 93-87)].

Wildlife: Endangered Species Act [16 U.S.C. 1531-1544 and Section 1536]; Fish and Wildlife Coordination Act [16 U.S.C. 661-667(d)]; Migratory Bird Treaty Act [16 U.S.C. 703-712]; Bald and Golden Eagle Protection Act of 1940 [16 U.S.C. 668-668d]

Historic and Cultural Resources: Section 106 of the National Historic Preservation Act of 1966, as amended [16 U.S.C. 470(f) et seq.]; Archeological Resources Protection Act of 1977 [16 U.S.C. 470(aa)-470(ll)]; Archeological and Historic Preservation Act of 1974 [16 U.S.C. 469-469(c)].

Land: Section 4(f) of The Department of Transportation Act: [23 CFR 774]; Farmland Protection Policy Act (FPPA) [7 U.S.C. 4201-4209]; Solid Waste Disposal Act, as amended by the Resource Conservation and Recovery Act of 1976 [42 U.S.C. 6901, et seq.]

Social and Economic: Civil Rights Act of 1964 [42 U.S.C. 2000(d)-2000(d)(1)]; Uniform Relocation Assistance and Real Property Acquisition Act of 1970 [42 U.S.C. 4601 et seq., Pub. L. 91-646] as amended by the Uniform Relocation Act Amendments of 1987 (Pub. L. 100-17).

Wetlands and Water Resources: Clean Water Act [33 U.S.C.]; Wetlands Mitigation [23 U.S.C. 103(b)(6)(M) and 133(b)(11)]: Compensatory Mitigation for Losses of Aquatic Resources 2008 [40 CFR 230].

Executive Orders: E.O. 11988 Floodplain Management. E.O. 11990 Protection of Wetlands; E.O. 12898, Federal Actions to Address Environmental Justice in Minority Populations and Low Income Populations; E.O. 13175 Consultation and Coordination with Indian Tribal Governments; E.O. 11514 Protection and Enhancement of Environmental Quality; E.O. 13112 Invasive Species;.

(Catalog of Federal Domestic Assistance Program Number 20.205, Highway Planning and Construction. The regulations implementing Executive Order 12372 regarding intergovernmental consultation on Federal programs and activities apply to this program.)

Authority: 23 U.S.C. 139(l)(1).

Peter J. Hartman,
Division Administrator, FHWA—Idaho Division.

[FR Doc. 2010-17223 Filed 7-14-10; 8:45 am]

BILLING CODE P